DEPARTMENT OF TRANSPORTATION

Federal Aviation Administration

14 CFR Part 71

[Airspace Docket No. 97-AWA-1]

RIN 2120-AA66

Modification of the San Francisco Class B Airspace Area; CA

AGENCY: Federal Aviation Administration (FAA), DOT.

ACTION: Final rule.

SUMMARY: This action modifies the San Francisco, CA, Class B airspace area. Specifically, this action raises the airspace ceiling from 8,000 to 10,000 feet mean sea level (MSL); lowers the airspace floor in a few areas; combines and reconfigures several existing areas; and creates some new areas. The FAA is taking this action to enhance safety, to reduce the potential for midair collision, and to improve the management of air traffic operations into, out of, and through the San Francisco Class B airspace area, while accommodating the concerns of airspace users.

EFFECTIVE DATE: 0901 UTC, September 7, 2000.

FOR FURTHER INFORMATION CONTACT: Joseph C. White, Airspace and Rules Division, ATA-400, Office of Air Traffic Airspace Management, Federal Aviation Administration, 800 Independence Avenue, SW., Washington, DC 20591; telephone: (202) 267-8783.

SUPPLEMENTARY INFORMATION:

Availability of Final Rule

An electronic copy of this document may be downloaded from the FAA regulations section of the Fedworld electronic bulletin board service (telephone: (703) 321-3339) or the Federal Register's electronic bulletin board service (telephone: (202) 512-1661) using a modem and suitable communications software.

Internet users may reach the FAA's web page at http://www.faa.gov or the Federal Register's web page at http://www.access.gpo.gov/nara for access to recently published rulemaking documents.

Any person may obtain a copy of this final rule by submitting a request to the Federal Aviation Administration, Office of Air Traffic Airspace Management, Attention: Airspace and Rules Division, ATA-400, 800 Independence Avenue, SW., Washington, DC 20591, or by calling (202) 267-8783. Communications must identify the docket number of this final rule. Persons interested in being placed on a mailing list for future NPRM's or final rules should contact the Federal Aviation Administration, Office of Rulemaking, (202) 267-9677, to request a copy of Advisory Circular No. 11-2A, Notice of Proposed Rulemaking Distribution System, which describes the application procedure.

Related Rulemaking Actions

On May 21, 1970, the FAA published the Designation of Federal Airways, Controlled Airspace, and Reporting Points Final Rule in the Federal Register (35 FR 7782). This rule provided for the establishment of Terminal Control Airspace (TCA) areas (now known as Class B airspace areas).

On June 21, 1988, the FAA published the Transponder With Automatic Altitude Reporting Capability Requirement Final Rule in the Federal Register (53 FR 23356). This rule requires all aircraft to have an altitude encoding transponder when operating within 30 nautical miles (NM) of any designated Class B airspace area primary airport from the surface up to 10,000 feet MSL. This rule excluded those aircraft that were not originally certificated with an engine-driven electrical system (or those that have not subsequently been certified with such a system), balloons, or gliders operating outside of the Class B airspace area, but within 30 NM of the primary airport.

On October 14, 1988, the FAA published the Terminal Control Area Classification and Terminal Control Area Pilot and Navigation Equipment Requirements Final Rule in the Federal Register (53 FR 40318). This rule, in part, requires the pilot-in-command of a civil aircraft operating within a Class B airspace area to hold at least a private pilot certificate, except for a student pilot who has received certain documented training.

On December 17, 1991, the FAA published the Airspace Reclassification Final Rule in the Federal Register (56 FR 65638). This rule discontinued the use of the term “Terminal Control Area” and replaced it with the designation “Class B airspace area.” This change in terminology is reflected in this final rule.

Background

The Class B airspace area program was developed to reduce the potential for midair collision in the congested airspace surrounding airports with high density air traffic operations by providing an area wherein all aircraft are subject to certain operating rules and equipment requirements.

The density of traffic and the type of operations being conducted in the airspace surrounding major terminals increase the probability of midair collisions. In 1970, an extensive study found that the majority of midair collisions occurred between a general aviation (GA) aircraft and an air carrier or military aircraft, or another GA aircraft. The basic causal factor common to these conflicts was the mix of aircraft operating under visual flight rules (VFR) and aircraft operating under instrument flight rules (IFR). Class B airspace areas provide a method to accommodate the increasing number of IFR and VFR operations. The regulatory requirements of these airspace areas afford the greatest protection for the greatest number of people by giving air traffic control (ATC) the increased capability to provide aircraft separation service, thereby minimizing the mix of controlled and uncontrolled aircraft.

The standard configuration of these airspace areas normally contain three concentric circles centered on the primary airport extending to 10, 20, and 30 NM, respectively. The standard vertical limit of these airspace areas normally should not exceed 10,000 feet MSL, with the floor established at the surface in the inner area and at levels appropriate to the containment of operations in the outer areas. Variations of these criteria may be utilized contingent on the terrain, adjacent regulatory airspace, and factors unique to the terminal area.

Public Input

On March 1, 1999, the FAA published a notice of proposed rulemaking (NPRM) in the Federal Register (Airspace Docket No. 97-AWA-1; 64 FR 9940) proposing to modify the San Francisco, CA, Class B airspace area. The comment period for this NPRM closed on April 30, 1999.

The FAA received 145 written comments in response to the proposal. All comments received were considered before making a determination on this final rule. An analysis of the comments received and the FAA's response is summarized below.

Discussion of Comments

The FAA received some letters that fully endorsed and supported the entire airspace modification proposal based on the positive benefits expected from aviation safety improvements. On the other hand, an equal number of letters expressed complete opposition to the proposal, viewing it as either unnecessary or overly restrictive. The remaining majority of comments (over 100) focused on one or more specific airspace design issues. The following discussion provides an overview of the key airspace issues of concern, and related FAA decisions reflected in this final rule.

Several commenters noted that the NPRM document was difficult for them to decipher due to the use of true north, rather than magnetic north. The FAA understands how it is possible that this may have confused some readers. However, due to magnetic variation changes over time, it is FAA policy to use reference to true north in airspace rulemaking documents.

The proposed expansion of the Area A southern boundary from 5NM to 6NM from the San Francisco (SFO) VHF Omni-directional Range/Distance Measuring Equipment (VOR/DME) was strongly opposed by nearly all general aviation pilots and by some airport officials. The most common reason cited for opposition was that the proposed modification would adversely affect the Bay Meadows noise abatement departure procedure from San Carlos Airport which supports a busy VFR route used primarily for general aviation flights to Half Moon Bay. One commenter stated that the 5NM boundary line sufficiently protects low altitude arrivals from the northwest entering downwind for Runways 28L and 28R at San Francisco. Another observation was expressed that during operations in the East configuration, departures were not assigned headings any further right than 120 degrees due to steep terrain south of the airport. The predominant viewpoint expressed by those who commented on Area A was that the existing airspace should not be modified.

Based on the information received during the NPRM comment process, and after further airspace analysis, the FAA agrees that the existing Area A southern boundary line should not be modified at this time. The final rule has been revised accordingly.

Several commenters suggested that the floor of the airspace near Mt. Tamalpais should be higher that proposed 4,000 feet MSL. Many expressed concern that the proposed floor would adversely affect hang gliders, paragliders, and other soaring activity, and that the proposed change might increase the potential for conflicts between powered and non-powered aircraft. One commenter believed that the proposed expansions of Area H and Area I were not warranted because only one instrument departure procedure from San Francisco would be encompassed in the proposed airspace areas. Some commenters suggested that a 6,000 feet MSL floor at Mt. Tamalpais would allow recreational soaring to continue in a safe manner at that location.

The FAA agrees that the Mt. Tamalpais area users would be constrained if the proposed expansion of Class B airspace were implemented. Therefore, the FAA has determined, based on a clearer understanding of user needs and additional analysis of the airspace, that the MOLEN departure procedure can be adequately and safely protected in Class B airspace without disrupting activities at Mt. Tamalpais. This final rule establishes a smaller airspace area with a floor of 4,000 feet MSL located southwest of Mt. Tamalpais to provide protection for the MOLEN departures from San Francisco.

Several comments from glider pilots, and the organizations representing them, recommended that the proposed new Class B airspace area between 25NM and 30NM from SFO VOR/DME should be limited to the airspace located south and west of the SFO VOR/DME 082° radial. The reason cited for this recommendation was that northwest winds over Mt. Diablo often extend the viable soaring area to about 10 miles south of the peak. Because very few sailplanes have VOR receivers, the commenters suggested a revision to the proposed airspace boundary line that would allow pilots to use visual reference to Interstate 580 as a guideline for remaining outside Class B airspace.

The FAA appreciates receiving the recommendation of a prominent landmark to enhance safety and reduce deviations. The rationale offered by the commenters is reasonable, and their suggested revision to the airspace boundary line is adopted in this final rule.

Several comments were received regarding the FAA proposal to implement Class B airspace in the Sunol gap area, also known as the “keyhole”, from 15NM to 25NM east of San Francisco. The primary concerns expressed were related to the fact that the area if heavily used as a VFR route to and from the San Francisco area communities. Since the airspace is also frequently subject to marine layer stratus cloud formations during spring and summer, concerns were expressed that VFR traffic might become overly compressed in the area between the proposed airspace floor and the mountainous terrain, thereby increasing collision risks. Some commenters suggested that the floor of the airspace should be 4,000 feet MSL to the east between 15NM and 20NM from the SFO VOR/DME to allow additional altitude for safety.

The FAA agrees with the recommendation and has adopted a floor at 4,000 feet MSL in this final rule in order to reduce the potential for overcrowded airspace along this popular route. This airspace has been combined with adjacent 4,000′ MSL feet floor areas both north and south of it, forming a large Area D. The new airspace will provide adequate Class B coverage for Runway 10 departures, and for Runway 28L/R arrivals during arrival rush periods when aircraft are vectored to final.

In the eastern section of the “keyhole” area, between 20NM and 25NM from SFO VOR/DME, several commenters suggested that the airspace floor should be designated at 6,000 feet MSL to accommodate hang glider activity near Mission Ridge, Mt. Alison, and Monument Peak. Many believed that the proposed 5,000 MSL floor would place too many general aviation flights in unsafe close proximity to numerous Part 103 operators.

The FAA agrees that a higher floor at 6,000 feet MSL in this area will better serve the needs of both the general aviation community and the Part 103 operators while simultaneously providing necessary Class B protection for SFO traffic flows. The area has now been combined with adjacent 6,000′ MSL floor areas to the north and south, forming a large Area E.

Several commenters suggested that the San Francisco Class B airspace modification should be designed to accommodate full protection for Simultaneous Offset Instrument Approach (SOIA) procedures. Concern was expressed that SOIA operations are anticipated to begin at San Francisco International Airport in the near future, and there would be insufficient time to complete another Class B rulemaking action to include the new procedures in a timely manner. Runway 28L SOIA operations would require that aircraft be established on final no closer than 20 miles from the airport, with glideslope intercept at an altitude lower than the current Class B airspace coverage. It was suggested that the area from the SFO VOR/DME 107° radial clockwise to the SFO VOR/DME 167° radial between 20NM and 25NM be lowered to 5,000 feet MSL for protection of anticipated Runway 28L SOIA arrivals.

The FAA acknowledges and appreciates the foresight demonstrated in the suggestion offered by these commenters. However, in formulating final rule decisions on regulatory airspace, the FAA cannot legally impose additional restrictions on access to airspace that would be more stringent than those originally proposed in the NPRM.

The proposed lowering of the airspace floor in the area surrounding Half Moon Bay down to a level of 4,000 feet MSL concerned some users who reported that they accomplish aerobatic training and practice offshore along the Pacific coast. With the existing class B airspace floor at 6,000 feet MSL over much of the area, airspace from 5,900 feet MSL down to 1,500 feet MSL is currently used for teaching, maneuvers requiring extra vertical space. The commenters on this issue suggested a few alternative airspace boundary reconfigurations to allow retention of some airspace available for aerobatic maneuvers.

The FAA has carefully reviewed available airspace options near Half Moon Bay and finds its necessary to establish a 4,000 feet MSL floor in the reconfigured Area D. The airspace is required in order to provide adequate Class B protection for numerous IFR turboprop air taxis carrying passenger to SFO. These aircraft are regularly vectored through airspace over Half Moon Bay at 4,000 feet MSL for radar sequencing into the flow of jets landing at San Francisco. ATC operational requirements dictate the need for these aircraft to be descended to 4,000 feet MSL near Half Moon Bay for effective sequencing into the SFO arrival flow. However, in order to accommodate retention of aerobatic practice in this area, the proposed Area D has been slightly modified in this final rule and a new Area K with a 5,000 feet MSL floor has been designated offshore near the Half Moon Bay airport. It should also be noted that ten miles of shoreline airspace will remain available only a few miles south of the current aerobatic practice area in the vicinity of San Gregorio.

The Aircraft Owners and Pilots Association (AOPA), and some individual pilots, expressed opposition to the various low altitude Class B airspace floor levels proposed over the Pacific Ocean because they were perceived to be barriers that would severely limit access to Victor Airway 27 (V27) for users wishing to transition northbound or southbound along the airway.

The FAA acknowledges that V27 penetrates the new SFO Class B Areas D, E, G, H, J, and K as designated in this final rule. While this could initially appear to limit access for general aviation, V27 actually remains an excellent route for VFR flights. Bay Approach personnel predict that flights requesting VFR transition along V27 at appropriate VFR altitudes will rarely, if ever, be denied access. It is also expected that international traffic transitioning to and from the oceanic environment will no longer need to level off at unnecessary interim altitudes to avoid uncontrolled traffic on V27. Additional safety benefits for VFR aircraft will include more efficient avoidance of heavy jet wake turbulence while under positive air traffic control and separation from other air traffic. These factors are highly consistent with FAA's Class B airspace design criteria that specify the airspace should afford a level of protection appropriate for the large numbers of aircraft and passengers served in the airspace.

Although fewer than 8 percent of all commenters expressed opposition to the proposed airspace ceiling at 10,000 feet MSL, the FAA has nonetheless carefully reconsidered airspace operational requirements with due regard to all comments received on this issue. A variety of reasons were cited by commenters for opposing the higher ceiling. A few commenters felt the higher ceiling could not be justified without more comprehensive traffic count data covering all operations between 8,000 and 10,000 feet MSL, or without presentation of statistical data concerning near-midair collision reports. Some recommended that the current ceiling should remain unchanged to allow VFR traffic unrestricted transition access at 8,500 and 9,500 feet MSL without causing unnecessary frequency congestion or excessive workload requiring more air traffic controllers. One commenter expressed concern that the higher ceiling might preclude overflights by some aircraft not equipped with oxygen. Another said that the proposed ceiling would be overly restrictive, and that a ceiling at 9,000 feet MSL would be adequate.

While reports of near midair collisions have not been filed in the San Francisco area that would explicitly suggest raising the Class B airspace ceiling, such reports would be neither desirable nor necessary to justify the FAA's decision. The Class B airspace program is designed to ensure proactively that specific safety levels within congested terminal airspace are maintained by designating areas wherein all aircraft are subject to standardized operating rules and equipment requirements. The FAA evaluated San Francisco International Airport operations using criteria specified in FAA Order 7400.2D, Procedures for Handling Airspace Matters, and with particular attention to the unique characteristics of air traffic flow in the San Francisco terminal area. The analysis showed that the existing airspace ceiling does not provide adequate regulatory airspace protection consistent with the expectations of the majority of airline passengers and airspace users. The Class B airspace program was developed to ensure that specific protection is afforded within the airspace surrounding high-density commercial airports. Class B airspace operating rules are deemed to provide the level of protection appropriate for the large numbers of aircraft and passengers served by this type of airport. The FAA's thorough analysis of actual airspace utilization within the San Francisco terminal area included usage of available modeling and simulation resources at the Airspace Planning and Analysis Division, ATA-200, Air Traffic Airspace Lab in Herndon, VA. The results of that analysis, along with review of the original facility staff study concerning this airspace, revealed that all airspace between 8,000 and 10,000 feet MSL is used on a regular basis by air traffic controllers for the purpose of handling instrument operations to and from SFO airport. San Francisco International Airport handled 432,046 total airport operations during 1998 and 19,079,664 passengers enplaned during the same time period. These figures continue a trend of significant growth. Current FAA aviation forecasts for the 1999 to 2010 time period project that the FAA Western-Pacific Region will lead all other FAA regions with a rate of growth of aircraft operations increasing 21.6 percent over the forecast period. Accordingly, this final rule raises the San Francisco Class B airspace ceiling to 10,000 feet MSL.

The Rule

This amendment to 14 CFR part 71 modified the San Francisco Class B airspace area. Specifically, this action raises the airspace ceiling from 8,000 to 10,000 feet MSL; lowers the airspace floor in some areas; combines and reconfigures several existing areas; and creates three new areas. Areas A, B, and C remain unchanged from the existing airspace configuration, except for the new ceiling at 10,000 feet MSL. Area D, with its floor at 4,000 feet MSL, has been combined with other areas including the previous Area H, part of previous Areas E and J, and a new area east of the primary airport. The reconfigured Area E retains its floor at 6,000 feet MSL, and now includes the previous Area I, a small corner from the previous Area J, and a new area east of the primary airport. The only change to the existing Area F is the new ceiling at 10,000 feet MSL. Area G has been slightly modified into a simpler arc configuration. Area K has been renamed Area I. A new Area H, with a floor of 4,000 feet MSL, has been designated over the ocean to the west of Area G. A new Area J, with a floor of 8,000 feet MSL, has been designated 25NM to 30NM from the SFO VOR/DME, forming a new southern and eastern airspace boundary. Lastly, a new Area K, with a floor of 5,000 feet MSL, has been designated over the ocean to the southeast of Area G.

The coordinates for this airspace docket are based on North American Datum 83. Class B airspace areas are published in Paragraph 3000 of FAA Order 7400.9G, Airspace Designations and Reporting Points, dated September 1, 1999, and effective September 16, 1999, which is incorporated by reference in 14 CFR section 71.1. The Class B airspace area listed in this document will be published subsequently in the Order.

Regulatory Evaluation Summary

Changes to Federal Regulations must undergo several economic analyses. First, Executive Order 12866 directs that each Federal agency shall propose or adopt a regulation only upon a reasoned determination that the benefits of the intended regulation justify its costs. Second, the Regulatory Flexibility Act requires agencies to analyze the economic effect of regulatory changes on small businesses and other small entities. Third, the Office of Management and Budget directs agencies to assess the effect of regulatory changes on international trade. In conducting these analyses, the FAA has determined that this final rule: (1) Will generate benefits that justify its minimal costs and is not a “significant regulatory action” as defined in the Executive Order; (2) is not significant as defined in the Department of Transportation's Regulatory Policies and Procedures; (3) will not have a significant impact on a substantial number of small entities; (4) will not constitute a barrier to international trade; and (5) will not contain any Federal intergovernmental or private sector mandate. These analyses are summarized here in the preamble, and the full Regulatory Evaluation is in the docket.

The FAA is modifying the San Francisco Class B airspace area by raising the ceiling from 8,000 feet mean sea level (MSL) to 10,000 feet MSL, by combining and reconfiguring the lateral boundaries of several existing areas, by establishing three new areas, and by lowering base altitudes. This action will increase the overall size of the Class B airspace area thereby increasing air traffic control's (ATC) ability to manage and control air traffic complexity in the San Francisco area. The FAA contends that this final rule will improve operational efficiency and enhance aviation safety in the Class B airspace area. The final modifications will also include clearer boundaries defining the Class B airspace areas.

The final rule will impose minimal costs on the FAA or airspace users. Notices will be sent to all pilots within a 100-mile radius of the San Francisco International Airport (SFO) at a total cost of $200.00 for postage. Printing of aeronautical charts which reflect the changes to the Class B airspace area will be accomplished during a scheduled chart printing, and will result in no additional costs for plate modification and updating of charts. No staffing changes will be required to maintain the modified Class B airspace area.

The FAA contends that the final rule will not impose any additional costs on general aviation aircraft operators. Since the San Francisco Class B airspace area will reside within the existing Mode C Veil, no additional avionics equipment will be required for any aircraft operating in the vicinity of the Class B airspace area. Even with the establishment of new areas and the expansion of existing areas, VFR aircraft operators should not have difficulty circumnavigating the Class B airspace area. Additionally, aircraft operators have the options of circumnavigating outside the San Francisco VOR/DME 15 NM arc and operate under the higher floor of 6,000 feet MSL. For those aircraft operators who choose not to circumnavigate or fly below the Class B airspace, standard procedures may be used to enter the San Francisco Class B airspace area.

The FAA has determined that this final rule will be cost-beneficial. The final rule will generate benefits in the form of improved flow of air traffic operations into and out of SFO; clearer airspace boundaries; improved ATC containment of transport aircraft (containment refers to aircraft operating in controlled airspace and receiving ATC separation from other aircraft); and reduced potential for midair collisions in the terminal area.

Initial Regulatory Flexibility Determination

The Regulatory Flexibility Act of 1980 establishes “as a principle of regulatory issuance that agencies shall endeavor, consistent with the objective of the rule and of applicable statutes, to fit regulatory and informational requirements to the scale of the business, organizations, and governmental jurisdictions subject to regulation.” To achieve that principal, the Act requires agencies to solicit and consider flexible regulatory proposals and to explain the rational for their actions. The Act covers a wide-range of small entities, including small businesses, not-for-profit organizations and small governmental jurisdictions.

Agencies must perform a review to determine whether a proposed or final rule will have a significant economic impact on a substantial number of small entities. If the determination is that it will, the agency must prepare a regulatory flexibility analysis (RFA) as described in the Act.

However, if an agency determines that a proposed or final rule is not expected to have a significant economic impact on a substantial number of small entities, section 605(b) of the 1980 act provides that the head of the agency may so certify and an FRA is not required. The certification must include a statement providing the factual basis for this determination, and the reasoning should be clear.

The FAA has determined that the final rule will have only a minimal impact on small entities. This determination is based on the premise that potentially impacted aircraft operators regularly fly into airports where radar approach control services have been established such as the SFO Class B airspace area. These operators already have the required equipment, and, therefore, there will be no additional cost to these entities. Accordingly, pursuant to the Regulatory Flexibility Act, 5 U.S.C. 605(b), the Federal Aviation Administration certifies that this rule will not have a significant economic impact on a substantial number of small entities.

International Trade Impact Statement

The final rule will not constitute a barrier to international trade, including the export of U.S. goods and services to foreign countries or the import of foreign goods and services into the United States.

Federalism Implications

The regulations adopted herein will not have a substantial direct effect on the States, on the relationship between the national government and the States, or on the distribution of power and responsibilities among the various levels of government. Therefore, it is determined that this final rule does not have federalism implications under E.O. 12612.

Unfunded Mandates Assessment

Title II of the Unfunded Mandates Reform Act of 1995 (the Act), enacted as Public Law 104-4 on March 22, 1995, requires each Federal agency, to the extent permitted by law, to prepare a written assessment of the effects of any Federal mandate in a proposed or final agency rule may result in the expenditure of $100 million or more (when adjusted annually for inflation) in any one year by State, local, and tribal governments in the aggregate, or by the private sector. Section 204(a) of the Act, 2 U.S.C. 1534(a), requires input by elected officers (or their designees) of State, local, and tribal governments on a proposed “significant intergovernmental mandate.” A “significant intergovernmental mandate” under the Act is any provision in a Federal agency regulation that would impose an enforceable duty upon State, local, and tribal governments in the aggregate of $100 million (adjusted annually for inflation) in any one year. Section 203 of the Act, 2 U.S.C. 1533, which supplements section 204(a), provides that, before establishing any regulatory requirements that might significantly or uniquely affect small governments, the agency shall have developed a plan, which, among other things, must provide for notice to potentially affected small governments, if any, and for a meaningful and timely opportunity to provide input in the development of regulatory proposals.

This final rule does not contain any Federal intergovernmental or private sector mandates. Therefore, the requirements of Title II of the Unfunded Mandates Reform Act of 1995 do not apply.

Paperwork Reduction Act

This rule contains no information collection requests requiring approval of the Office of Management and Budget pursuant to the Paperwork Reduction Act of 1995 (44 U.S.C. 3507(d)).

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

Paragraph 3000—Subpart B—Class B Airspace

* * * * *

AWP CA B San Francisco, CA

San Francisco International (SFO) Airport (Primary Airport)

(lat. 37°37′09″N., long. 122°22′30″W.).

San Francisco (SFO) VOR/DME

(lat. 37°37′10″N., long. 122°22′26″W.)

Oakland (OAK) VORTAC

(lat. 37°43′33″N., long. 122°13′25″W.)

Sausalito (SAU) VORTAC

(lat. 37°51′19″N., long. 122°31′22″W.)

Boundaries

Area A. That airspace extending upward from the surface to and including 10,000 feet MSL within a 7-mile radius of the San Francisco (SFO) VOR/DME extending clockwise from the SFO VOR/DME 247° radial to the SFO VOR/DME 127° radial, and within a 5-mile radius of the SFO VOR/DME between the SFO VOR/DME 127° radial clockwise to SFO VOR/DME 247° radial, excluding that airspace within a 3-mile radius of the Oakland VORTAC and excluding that airspace west of the Pacific coast shoreline.

Area B. That airspace extending upward from 1,500 feet MSL to and including 10,000 feet MSL bounded on the northwest by a 5-mile radius arc of the SFO VOR/DME, on the southeast by a 10-mile radius arc of the SFO VOR/DME, on the northeast by the SFO VOR/DME 107° radial, and on the southwest by the SFO VOR 137° radial excluding that airspace within Area A.

Area C. That airspace extending upward from 2,500 feet MSL to and including 10,000 feet MSL bounded on the northwest by a 10-mile radius arc of the SFO VOR/DME, on the southeast by a 15-mile radius arc of the SFO VOR/DME, on the northeast by the SFO VOR/DME 107° radial and on the southwest by the SFO VOR/DME 137° radial.

Area D. That airspace extending upward from 4,000 feet MSL to and including 10,000 feet MSL, bounded by a line beginning at the 5-mile DME point on the SFO VOR/DME 137° radial thence southeast along the SFO VOR/DME 137° radial to and counterclockwise along the 15-mile DME arc of the SFO VOR/DME to and northwest along the Oakland VORTAC 305° radial to and northeast along the Sausalito VORTAC 052° radial to and clockwise along the 20-mile DME arc of the SFO VOR/DME to and northwest along the SFO VOR/DME 167° radial to and clockwise along the 15-mile DME arc of the SFO VOR/DME to and northeast along the SFO VOR/DME 247° radial to and counterclockwise along the 5-mile DME arc of the SFO VOR/DME to the point of beginning, excluding that airspace within Area K.

Area E. That airspace extending upward from 6,000 feet MSL to and including 10,000 feet MSL bounded by a line beginning at the 15-mile DME point on the SFO VOR/DME 277° radial thence counterclockwise along the 15-mile DME arc of the SFO VOR/DME to and southeast along the SFO VOR/DME 167° radical to and counterclockwise along the 20-mile DME arc of the SFO VOR/DME to and northeast along the Sausalito VORTAC 052° radial, to and clockwise along the 25-mile DME arc of the SFO VOR/DME to and northeast along the SFO VOR/DME 227° radial to and clockwise along the 20-mile DME arc to and northeast along the SFO VOR/DME 277° radial to the point of beginning.

Area F. That airspace extending upward from 2,100 feet MSL to and including 10,000 feet MSL bounded by a line beginning at the 10-mile DME point on the SFO VOR/DME 247° radial thence clockwise along the 10-mile DME arc to and west along the SFO VOR/DME 107° radial to and counterclockwise along the 7-mile DME arc of the SFO VOR/DME to and clockwise along the 3-mile DME arc of the Oakland VORTAC to and counterclockwise along the 7-mile DME arc of the SFO VOR/DME to and southwest along the SFO VOR/DME 247° radial to the point of beginning.

Area G. That airspace extending upward from 3,000 feet MSL to and including 10,000 feet MSL between the 10- and 15-mile radii of the SFO VOR/DME from the SFO VOR/DME 247° radial clockwise to the SFO VOR/DME 107° radial.

Area H. That airspace extending upward from 4,000 feet MSL to and including 10,000 feet MSL between the 15- and 20-mile radii of the SFO VOR/DME from the SFO VOR/DME 277° radial clockwise to the SFO VOR/DME 317° radial.

Area I. That airspace extending upward from 1,500 feet MSL to and including 10,000 feet MSL bounded on the west by a 7-mile radius arc of the SFO VOR/DME and on the east by the Pacific coast shoreline.

Area J. That airspace extending upward from 8,000 feet MSL to and including 10,000 feet MSL between the 25- and 30-mile radii of the SFO VOR/DME from the SFO VOR/DME 082° radial clockwise to the SFO VOR/DME 227° radial.

Area K. That airspace extending upward from 5,000 feet MSL to and including 10,000 feet MSL between the 10- and 15-mile radii of the SFO VOR/DME from the SFO VOR/DME 217° radial clockwise to the SFO VOR/DME 247° radial.

* * * * *

Issued in Washington, DC, on May 30, 2000.
Reginald C. Matthews,
Manager, Airspace and Rules Division.

Note: The following Appendix will not appear in the Code of Federal Regulations.

Appendix—San Francisco Class B Airspace Area.

BILLING CODE 4910-13-M

[FR Doc. 00-14046 Filed 6-6-00; 8:45 am]

BILLING CODE 4910-13-C